DEPARTMENT OF ENERGY

Office of Energy Efficiency and Renewable Energy

[EERE-2014-BT-DET-0030]

RIN 1904-AD33

Preliminary Determination Regarding Energy Efficiency Improvements in the 2015 International Energy Conservation Code

AGENCY: Energy Efficiency and Renewable Energy, Department of Energy.

ACTION: Notice of Preliminary Determination.

SUMMARY: The U.S. Department of Energy (DOE) has preliminarily determined that the 2015 edition of the International Energy Conservation Code (IECC) would improve energy efficiency in buildings subject to the code compared to the 2012 edition. DOE analysis indicates that buildings meeting the 2015 IECC (as compared with buildings meeting the 2012 IECC) would result in national source energy savings of approximately 1.03 percent, site energy savings of approximately 1.12 percent, and energy cost savings of approximately 0.90 percent of residential building energy consumption, as regulated by the IECC. If this determination is finalized, each State would be required by statute to certify that it has reviewed the provisions of its residential building code regarding energy efficiency, and made a determination as to whether to update their code to meet or exceed the 2015 IECC. Additionally, this notice provides guidance to States on these processes and associated certifications.

DATES: Comments must be provided by October 27, 2014.

ADDRESSES: Any comments submitted must identify docket number EERE-2014-BT-DET-0030 or Regulatory Information Number (RIN) 1904-AD33. Comments may be submitted using any of the following methods:

1. Federal eRulemaking Portal: www.Regulations.gov. Follow the instructions for submitting comments.

2. Email: 2015IECC2014DET0030@ee.doe.gov. Include the docket number and/or RIN in the subject line of the message.

3. Mail: Ms. Brenda Edwards; U.S. Department of Energy, Building Technologies Office EE-5B; 1000 Independence Avenue SW., Washington, DC 20585. If possible, please submit all items on a CD, in which case it is not necessary to include printed copies.

4. Hand Delivery/Courier: Ms. Brenda Edwards; U.S. Department of Energy, Building Technologies Office EE-5B; 1000 Independence Avenue SW., Washington, DC 20585. If possible, please submit all items on a CD, in which case it is not necessary to include printed copies.

For detailed instructions on submitting comments and additional information on the rulemaking process, see Section VII of this document (Public Participation).

Docket: The docket, which includes Federal Register notices, comments, and other supporting documents/materials, is available for review at Regulations.gov. All documents in the docket are listed in the site index. However, some documents listed in the index, such as those containing information that is exempt from public disclosure, may not be publicly available.

A link to the docket Web page can be found at: http://www.energycodes.gov/regulations/determinations. This Web page will contain a link to the docket for this notice on the Regulations.gov site. The Web page will contain simple instructions on how to access all documents, including public comments, in the docket. See Section VII for further information on how to submit comments through Regulations.gov.

For further information on how to submit a public comment or review other comments and the docket, contact Ms. Brenda Edwards at (202) 586-2945 or by email: Brenda.Edwards@ee.doe.gov.

FOR FURTHER INFORMATION CONTACT: Jeremiah Williams; U.S. Department of Energy, Office of Energy Efficiency and Renewable Energy, 1000 Independence Avenue SW., EE-5B, Washington, DC 20585; (202) 287-1941; Jeremiah.Williams@ee.doe.gov.

For legal issues, please contact Kavita Vaidyanathan; U.S. Department of Energy, Office of the General Counsel, 1000 Independence Avenue SW., GC-71, Washington, DC 20585; (202) 586-0669; Kavita.Vaidyanathan@hq.doe.gov.

SUPPLEMENTARY INFORMATION:

I. Introduction

A. Statutory Authority

B. Background

II. Introduction

III. Methodology

IV. Summary of Findings

V. Preliminary Determination Statement

VI. State Certification

VII. Regulatory Review & Analysis

VIII. Public Participation

I. Introduction

A. Statutory Authority

Title III of the Energy Conservation and Production Act (ECPA), as amended, establishes requirements for building energy conservation standards, administered by the DOE Building Energy Codes Program. (42 U.S.C. 6831 et seq.) Section 304(a), as amended, of ECPA provides that whenever the 1992 Model Energy Code (MEC), or any successor to that code, is revised, the Secretary of Energy (Secretary) must make a determination, not later than 12 months after such revision, whether the revised code would improve energy efficiency in residential buildings, and must publish notice of such determination in the Federal Register. (42 U.S.C. 6833(a)(5)(A)) The Secretary may determine that the revision of the 1992 MEC, or any successor thereof, improves the level of energy efficiency in residential buildings. If so, then not later than 2 years after the date of the publication of such affirmative determination, each State is required to certify that it has reviewed its residential building code regarding energy efficiency, and made a determination as to whether it is appropriate to revise its code to meet or exceed the provisions of the successor code. (42 U.S.C. 6833(a)(5)(B)) State determinations are to be made: (1) After public notice and hearing; (2) in writing; (3) based upon findings included in such determination and upon evidence presented at the hearing; and (4) available to the public. (See 42 U.S.C. 6833(a)(2)) In addition, if a State determines that it is not appropriate to revise its residential building code, the State is required to submit to the Secretary, in writing, the reasons, which are to be made available to the public. (See 42 U.S.C. 6833(a)(4))

ECPA requires the Secretary to permit extensions of the deadlines for the State certification if a State can demonstrate that it has made a good faith effort to comply with the requirements of section 304(a) of ECPA, and that it has made significant progress in doing so. (42 U.S.C. 6833(c)) DOE is also directed to provide technical assistance to States to support implementation of State residential and commercial building energy efficiency codes. (42 U.S.C. 6833(d))

B. Background

The International Energy Conservation Code (IECC) is the national model code establishing energy efficiency requirements for residential buildings. The IECC is revised every 3 years through a code development and consensus process administered by the International Code Council (ICC).¹ Code change proposals may be submitted by any interested party, and are evaluated through a series of public hearings. As part of the ICC process, any interested party may submit proposals, as well as written comments or suggested changes to any proposal, and make arguments before a committee of experts assembled by the ICC. At the final public hearing, arguments are presented to and voted upon by the ICC Governmental Member Representatives, with the collection of accepted proposals forming the revised edition of the IECC. The ICC published the 2015 edition of the IECC (2015 IECC or 2015 edition) on June 3, 2014, which forms the basis of this determination notice.

¹ More information on the ICC code development and consensus process is described at http://www.iccsafe.org/cs/codes/Pages/procedures.aspx

II. Methodology

In arriving at a preliminary determination, DOE reviewed all changes between the 2015 and 2012 editions of the IECC. The IECC covers a broad spectrum of the energy-related components and systems in buildings, ranging from simpler residential buildings to more complex multifamily facilities. For the purposes of its preliminary determination, DOE focused only on low-rise residential buildings, defined in a manner consistent with the ICC and the American Society of Heating, Refrigerating and Air-conditioning Engineers (ASHRAE). Low-rise residential buildings include one- and two-family detached and attached buildings, and low-rise multifamily buildings (not greater than three stories), such as condominiums and garden apartments. The 2015 IECC was developed through the same approach as the previous 2012 edition with approval through the ICC consensus process. The 2015 edition contains no significant changes to the overall scope or the structure of the prescriptive and mandatory provisions of the code, which form the basis of the DOE determination analysis. As a result, DOE preliminarily determined that the methodology used for the analysis of the 2012 IECC should again be utilized for the analysis of the 2015 IECC.

Overview of Methodology

The analysis methodology used by DOE contains both qualitative and quantitative components. A qualitative comparison is undertaken to identify textual changes between requirements in the 2015 and 2012 editions of the IECC, followed by a quantitative assessment of energy savings conducted through whole-building simulations of buildings constructed to meet the minimum requirements of each code over a range of U.S. climates. The analysis methodology, which was previously developed through a public comment process, is available on the DOE Building Energy Codes Program Web site.²

² See http://www.energycodes.gov/development/residential/methodology.

Consistent with its previous determinations, DOE compared overall editions of the IECC, and did not issue determinations for individual code changes. DOE interprets the language in section 304(a) of ECPA to mean that when a comprehensive revision of the 1992 MEC is published (which in this case is the 2015 IECC), then that revised or successor code triggers the Secretary's obligation to issue a determination as to whether the revised code improves energy efficiency in residential buildings. (See 42 U.S.C. 6833(a)(5)(A)) This determination is made by comparing the revised or successor code to the last predecessor code.

Consideration for Technological and Economic Factors

Section 304(a) of ECPA states that the Secretary is required to make a determination as to whether any successor standard to the 1992 MEC will improve energy efficiency. (42 U.S.C. 6833(a)(5)(A)) Section 304 of ECPA does not include any reference to economic justification, although such criteria are considered directly by the ICC code development and consensus process, as applicable. Each proposal submitted to the ICC code development process also requires a declaration of whether the proposed code change will increase the cost of construction.

Separate from the Secretary's determination under section 304(a), section 307 of ECPA requires DOE to periodically review the technical and economic basis of the voluntary building energy codes, and participate in the industry process for review and modification, including seeking adoption of all technologically feasible and economically justified energy efficiency measures. (42 U.S.C. 6836(b)) In fulfillment of this directive, DOE evaluates its code change proposals submitted to the ICC, analyzing energy savings and cost-effectiveness, as applicable, and otherwise participates in the ICC process. In addition, DOE performs independent technical and economic analysis of the IECC as part of its direction to provide assistance to States implementing building energy codes. This approach allows DOE to meet its statutory obligation to participate in the industry process for review and modification of the IECC, and to seek adoption of all technologically feasible and economically justified energy efficiency measures. (42 U.S.C. 6836(b))

In preparation for technical assistance activities, DOE previously developed a standardized methodology for assessing the cost-effectiveness of code changes through a public process. (78 FR 47677) This methodology is published on the DOE Building Energy Codes Program Web site, and has been applied by DOE in the development of code change proposals for the IECC, as well as assessing the cost-effectiveness of published editions of the IECC. DOE expects to update this methodology periodically to ensure its assumptions and economic criteria remain valid and adequate for States considering adoption of model building energy codes.

III. Summary of Findings

In performing its determination, DOE performed both a qualitative and quantitative analysis of the prescriptive and mandatory requirements contained in the 2015 IECC. The chosen methodology for these analyses is consistent with actions of recent determinations, and provides a reasonable assessment of how the code will affect energy savings in residential buildings. A summary of the analyses supporting DOE's determination is outlined in the following sections.

Qualitative Analysis

DOE performed a comparative analysis of the textual requirements of the 2015 IECC, examining the specific changes (approved code changes) made between the 2012 and the 2015 editions. The ICC Code Hearing process considers individual code changes for approval, and then bundles all the approved code changes together to form the next published edition. In creating the 2015 IECC, ICC processed 77 approved code change proposals. DOE evaluated each of these code change proposals in preparing its determination.

Overall, DOE found that the vast majority of changes in the 2015 IECC appear to be neutral (i.e., have no direct impact on energy savings) within the context of the determination analysis. DOE also found that beneficial changes (i.e., increased energy savings) outweigh any changes with a detrimental effect on energy efficiency in residential buildings. Of the 77 total changes:

• 6 were considered beneficial;

• 62 were considered neutral;

• 5 were considered negligible;

• 3 were considered detrimental; and

• 1 was considered to have an unquantifiable impact.

Table III.1 presents the findings resulting from the qualitative analysis, along with a description of the change, as well as an assessment of the anticipated impact on energy savings in residential buildings. Additional details pertaining to the qualitative analysis are presented in a technical support document.³

³ Mendon et al., 2015 IECC Preliminary Determination of Energy Savings: Technical Analysis (PNNL, Richland, WA, August 2014), available at http://www.pnnl.gov/main/publications/external/technical_reports/PNNL-23438.pdf.

Table III.1—Qualitative Analysis Findings
Proposal number | Code section(s) affected (a) | Description of changes | Impact on energy efficiency | Reason
RE1-13 | R101.4.3 (IRC N1101.3) | Deletes the exception for vestibules in the provisions pertaining to additions, alterations, renovations, and repairs | Neutral | The residential code has no requirements for vestibules.
RE3-13 | R103.2 (IRC N1101.8) | Deletes text relating to commercial building components in “Information on Construction Documents” | Neutral | Editorial change.
RE5-13 | R202 (IRC N1101.9) | Deletes the definition of “entrance door” | Neutral | The definition applied to nonresidential buildings only.
RE6-13 | R202 (NEW) (IRC N1101.9 (NEW)) | Adds definition of “Insulating Siding” and notes that the insulation level of this siding must be R-2 or greater | Neutral | Addition of definition.
RE9-13 | R202 (NEW) (IRC N1101.9 (NEW)), R304 (NEW) (IRC N1101.16 (NEW)) | Adds an appendix with non-mandatory provisions for homes to be “solar-ready.” Designed to be readily referenced by adopting authorities as needed | Neutral | No direct impact, but has the potential to increase efficiency in the future.
RE12-13 | R401.2 (IRC N1101.15) | Minor clarification that the code's mandatory requirements should be met in all compliance paths | Neutral | Clarification of code requirements.
RE14-13 | R401.3 (IRC N1101.16) | Adds more options for the allowable locations for posting the certificate of occupancy | Neutral | Not energy related but does eliminate a small enforcement hindrance.
RE16-13 | R401.3 (IRC N1101.16) | Similar to RE14-13. Allows more options for the allowable locations for posting the certificate of occupancy | Neutral | Not energy related but does eliminate a small enforcement hindrance.
RE18-13 | R402.1 (IRC N1102.1), R402.1.1 (NEW) (IRC N1102.1.1 (NEW)) | Cross-references vapor barrier requirements by referencing IRC R702.7 | Neutral | Adds consistency and clarifies code requirements.
RE30-13 | Table R402.1.1, (IRC Table N1102.1.1) | Modifies footnote h to these tables to allow combined sheathing/siding | Neutral | Adds an option for combined insulated sheathing/siding that meets code requirements.
RE43-13 | R402.1.2 (IRC N1102.1.2) | Adds use of term “continuous insulation” instead of “insulating sheathing” | Neutral | Minor clarification of terminology.
RE45-13 | Table R402.1.3 (IRC N1102.1.3) | Slightly increases frame wall U-factor in climate zones 1 and 2. The R-value table remains unchanged | Negligible | Intended to correct a perceived misalignment between the code's R-value-based requirements and the alternative U-factor-based requirements. The changes are very small and unlikely to change wall insulation levels in most homes.
RE50-13 | Table R402.1.3 (IRC Table N1102.1.3) | Slightly increases frame wall U-factor in climate zones 1-5 but reduces it in climate zones 6-8. The R-value table remains unchanged | Negligible | Intended to correct a perceived misalignment between the code's R-value-based requirements and the alternative U-factor-based requirements. The changes are very small and unlikely to change wall insulation levels in most homes.
RE53-13 | R402.2.1 (IRC N1102.2.1) | Clarifies decreased ceiling insulation allowance for ceilings with attic spaces only | Neutral | Clarification of the code requirement.
RE58-13 | R402.2.4 (IRC N1102.2.4) | Clarifies that vertical doors are not “access doors” in R402.2.4 and shall be permitted to meet the fenestration requirements of Table 402.1.1 | Neutral | Clarification of the code requirement.
RE60-13 | R402.2.7 (IRC N1102.2.7), Table R402.4.1.1 (IRC Table N1102.4.1.1) | Allows the floor cavity insulation to not be in contact with the underside of the subfloor decking if it is in contact with the topside of sheathing or continuous insulation installed on the bottom side of floor framing | Neutral | Allows a combination of cavity and continuous insulation to meet the floor R-value requirement.
RE63-13 | Table R402.1.1 (IRC Table N1102.1.1), R402.2.13 (NNEW) (IRC N1102.2.13 (NEW)) | Clarifies footnote h text by rewording it and moving it to new section R402.2.13 | Neutral | Clarification of code requirements.
RE68-13 | R402.3.5 (IRC N1102.3.5) | Slightly increases sunroom U-factor and solar heat gain coefficient (SHGC) requirements | Detrimental | Applies to only climate zone 1, the zone least sensitive to outdoor temperature; impacts only thermally isolated sunrooms.
RE83-13 | Table R402.4.1.1 (IRC Table N1102.4.1.1) | Clarifies requirements for wall corner and headers to have insulation that has at least R-3 per inch, and clarifies that it is the cavities in such components that require the insulation | Neutral | Minor addition and clarification of code requirements.
RE84-13 | Table R402.4.1.1 (IRC Table N1102.4.1.1) | Allows a combination of cavity and continuous insulation to meet the floor R-value requirement | Neutral | Subset of RE60-13; makes minor clarifying revisions to wording.
RE85-13 | Table R402.4.1.1 (IRC Table N1102.4.1.1) | Reorganizes Table 402.4.1.1 by adding an additional column and separating “air barrier criteria” from “insulation installation criteria,” for clarity | Neutral | Clarification of code requirements.
RE86-13 | Table R402.4.1.1 (IRC Table N1102.4.1.1), R402.4.2 (IRC N1102.4.2) | Clarifies language relating to fireplace sealing/door requirements | Neutral | Clarification of code requirements.
RE91-13 | R402.4.1.2 (IRC N1102.4.1.2), Chapter 5 | Adds references to the American Society for Testing and Materials (ASTM) standards E779 and E1827 for blower door testing | Neutral | Adds more detailed references for procedures.
RE103-13 | R403.1.1 (IRC N1103.1.1) | Adds requirements for the thermostat to be pre-programmed by the manufacturer | Neutral | Clarifies that the requirement is the manufacturer's responsibility.
RE105-13 | R403.1.1 (IRC N1103.1.1) | Makes the programmable thermostat requirement apply to any heating/cooling system | Neutral | No direct impact on energy.
RE107-13 | R403.2.1 (IRC N1103.2.1) | Increases insulation requirements for return ducts in attics from R-6 to R-8 | Beneficial | Modestly reduces conduction losses from return ducts in attics.
RE109-13 | R403.2 (IRC N1103.2), R403.2.2 (IRC N1103.2.2), R403.2.3 (NEW) (IRC N1103.2.3 (NEW)), R403.2.4 (NEW) (IRC N1103.2.4 (NEW)) | Makes the maximum allowable duct leakage rates prescriptive, allowing performance path trade-offs | Neutral | Zero-sum tradeoff within IECC performance path rules; applies only to compliance via performance path.
RE111-13 | R403.2.2 (IRC N1103.2.2) | Aligns the IECC with the International Mechanical Code (IMC) by removing exception from duct sealing for low-pressure continuously welded ducts | Neutral | Requires sealing of additional locking joints for consistency between the IECC and IMC. Impact is negligible because the mandatory duct pressure test governs duct leakage regardless of specific sealing strategies.
RE112-13 | R403.2.2 (IRC N1103.2.2) | Allows the maximum allowable duct leakage of 4 cubic feet per minute/100 square feet (post-construction) to be optionally measured as leakage to outdoors rather than total leakage | Detrimental | More duct leakage to the indoors is possible in some configurations, which can be detrimental to air balancing.
RE117-13 | R403.2.2 (IRC N1103.2.2) | Deletes exception relating to partially inaccessible duct connections | Neutral | Editorial change to eliminate irrelevant text.
RE118-13 | R403.2.2 (IRC N1103.2.2) | Reverses the order of how the two duct testing options are presented | Neutral | Rearrangement of text.
RE125-13, Part I | R403.4.1 (IRC N1103.4.1), R403.4.1.1 (NEW) (IRC N1103.4.1.1 (NEW)), R403.4.1.2 (NEW) (IRC N1103.4.1.2 (NEW)), Chapter 5, IPC [E] 607.2.1, [E] 607.2.1.1 (NEW), [E] 607.2.1.1.1 (NEW), [E] 607.2.1.1.2 (NEW), IPC Chapter 14, IRC P2905 (NEW), IRC P2905.1 (NEW) | Adds requirements for demand-activated control on hot water circulation systems and heat trace systems. Makes IECC, IRC, and IPC consistent and clarifies requirements for these systems | Beneficial | Demand activated control reduces the runtime of circulation pumps.
RE132-13 | R403.4.2 (IRC N1103.4.2), Table R403.4.2 (IRC Table N1103.4.2) | Deletes requirement for domestic hot water (DHW) pipe insulation to kitchen and the generic requirement on long/large-diameter pipes. However, adds DHW pipe insulation for 3/4-inch pipes | Beneficial | Energy lost due to the elimination of hot water pipe insulation on the kitchen pipe is typically more than made up by added insulation requirements for pipes 3/4 inches in diameter, the most common size for trunk lines.
RE136-13, Part I | R403.4.2 (NEW) (IRC N1103.4.2 (NEW)), IPC 202, IPC [E]607.2.1.1 (NEW), IRC P2905 (NEW), IRC P2905.1 (NEW) | Adds demand control requirements for recirculating systems that use a cold water supply pipe to return water to the tank | Beneficial | Demand activated control reduces the runtime of circulation pumps.
RE142-13 | R403.6 (IRC N1103.6) | Requires heating, ventilation, and air-conditioning equipment to meet Federal efficiency standards | Neutral | DOE's Appliances and Commercial Equipment Standards Program regulates the minimum efficiency of units produced by equipment manufacturers.
RE163-13 | R405.4.2 (IRC N1105.4.2), R405.4.2.1 (NEW) (IRC N1105.4.2.1 (NEW)), R405.2.2 (NEW) (IRC N1105.4.2.2 (NEW)) | Specifies details of a compliance report for the performance approach | Neutral | No direct impact on energy.
RE167-13 | Table R405.5.2(1) (IRC Table B1105.5.2(1)) | Fixes missing standard reference design specifications for thermal distribution systems | Neutral | Adds details for modeling the standard reference design in the performance path.
RE173-13 | Table R405.5.2(1) (IRC Table N1105.5.2(1)) | Adjusts Table R405.5.2(1) (the performance path) terminology for doors and fenestration | Neutral | Simple clarification of the intent of the code.
RE184-13 | R101.4.3, R202, R406 (NEW), (IRC N1101. 3, N1101.9, N1106(NEW)) | Revamps alterations language and moves it from chapter 1 to section R406 | Neutral | Trade-offs between weakened and strengthened requirements possible but there is no feasible method for quantifying the energy impact of these trade-offs.
RE188-13 | R202 (NEW) (IRC N1101.9 (NEW)), R401.2 (IRC N1101.15), R406 (NEW) (IRC N1106 NEW) | Optional new approach in section 406 requiring an ERI with a tradeoff limitation on the thermal envelope requirements | Not quantifiable at this time | New alternative compliance path—no data is currently available to adequately estimate the number of homes that may be constructed using this compliance path.
RE193-13 | R202 (IRC N1101.9), 403.10 (New) (IRC N1103.10 (New)) | Adds requirements for testing of combustion venting systems | Neutral | Impacts air quality; no direct impact on home energy usage.
RE195-13 | R402.1.2 | Subtracts out R-0.6 for insulating siding from R-value table to prevent double counting of siding | Neutral | Adds consistency in R-value calculations.
RB96-13, Part I | Table R402.4.1.1 | Specifies that air sealing shall be provided in fire separation assemblies | Neutral | Minor clarification of code requirements.
RB100-13 | R303.4 | Corrects the air infiltration threshold in R303.4 to be 5 air changes per hour or less to align it with the infiltration limits set by the code | Neutral | Consistency change.
SP19-13, Part III | 303.1; IECC C404.7; IECC R403.9 | Makes numerous wording changes to pool and spa requirements. Doesn't appear to make substantive changes | Neutral | No direct impact on home energy usage.
ADM22-13, Part III | IECC: R108.2 | Revises “owner's agent” to “owner's authorized agent” in R108.2 | Neutral | Simple language change.
ADM30-13, Part III | IECC: R103.4 | Adds “work shall be installed in accordance with the approved construction documents” to R103.4 | Neutral | Simple language change.
ADM40-13, Part III | IECC: R103.1 | Adds “technical reports” as acceptable data for submittal with a permit application | Neutral | Simple language change.
ADM51-13, Part III | IECC: R202 (IRC N1101.9) | Adds “retrofit” and other terms to definition of “alteration” | Neutral | Simple language change.
ADM57-13, Part III | IECC: R202 (IRC N1101.9)(New) | Adds definition of “approved agency.” | Neutral | Simple language change.
ADM60-13, Part III | IECC: R202 (IRC N1101.9) | Revises definition of “repairs.” | Neutral | Simple language change.
CE4-13, Part II | R101.4, R202 (IRC N1101.9); R402.3.6 (IRC N1102.3.6), Chapter 5 (RE) (NEW) (IRC N1106 (NEW)) | Editorial relocation of code text pertaining to “existing buildings” to a separate chapter | Neutral | Editorial change.
CE8-13, Part II | R101.4.2, R202 (NEW) (IRC N1101.9 (NEW)) | Revises language requiring the code to apply to historic buildings if no “compromise to the historic nature and function of the building” occurs | Beneficial | Additional buildings must meet the code requirements.
CE11-13, Part II | R101.4.3, (IRC N1101.3) | Adds existing single-pane fenestration with surface films to the list of exceptions in R101.4.3 | Neutral | Exceptions are allowed only if energy use is not increased.
CE15-13, Part II | R101.4.3 (IRC N1101.3), R202 (NEW) (IRC N1101.9 (NEW)) | Revises exemption for roofing replacement | Neutral | Editorial change.
CE23-13, Part II | R101.5.2 (IRC N1101.6), R402.1 (IRC N1102.1) | Relocates exception for “low energy” buildings from R101.5.2 to R402.1 | Neutral | Editorial change.
CE33-13, Part II | R102, R102.1.1 (NEW) | Changes title of section R102 to “Applicability—Duties and powers of the Code Official” and revises language on “alternative materials, design and methods of construction and equipment” | Neutral | Editorial change.
CE37-13, Part II | R103.2.1 (NEW) | Requires the building's thermal envelope to be represented on construction documents | Neutral | Simple documentation requirement.
CE38-13, Part II | R103.3, R104.1, R104.2 (NEW), R104.3, R104.3.1 (NEW), R014.3.2 (NEW), R104.3.3 (NEW), R104.3.4 (NEW), R104.3.5 (NEW), R104.3.6 (NEW), R104.5 | Revises a number of administrative requirements to enhance the ability to ensure compliance with the code and improve the usability of the code | Neutral | No direct impact on energy.
CE43-13, Part II | R106.2 | Deletes R106.2 “Conflicting requirements” because it is redundant with “Conflicts” in R106.1.1 | Neutral | Editorial change.
CE44-13, Part II | R108.4 | Revises language pertaining to “fines” in section R108.4 | Neutral | Editorial change.
CE49-13, Part III | R202 (NEW) (IRC N1101.9 (NEW)) | Adds definition of a “circulating hot water system” | Neutral | Editorial change.
CE50-13, Part II | R202 (NEW) (IRC N1101.9 (NEW)) | Add definition of “climate zone” | Neutral | Editorial change.
CE51-13, part II | R202 (IRC N1101.9) | Revises the definition of “conditioned space” | Neutral | Revision of definition.
CE52-13, Part II | R202 (NEW) (IRC N1101.9 (NEW)) | Adds definition of “continuous insulation” | Neutral | Definition addition.
CE59-13, Part II | R202 (IRC N1101.9) | Revises the definition of “vertical glazing” | Neutral | Revision of definition.
CE61-13, Part II | Table R301.1 | Adds “Broomfield County” to Table C301.1 and R301.1 | Neutral | Editorial change.
CE62-13, Part II | Figure R301.1 (IRC Figure N1101.10), Table R301.1 (IRC Table N1101.10) | Eliminates the “warm humid” designation for counties in the “dry” moisture regime in Southwest Texas | Neutral | No efficiency requirements depend on the warm-humid designation in Climate Zone 2/Dry.
CE63-13, Part II | R303.1.1 (IRC N1101.12.1) | Requires labelling R-value on packaging of insulated siding and listing of same on the certification | Neutral | Labeling requirement.
CE65-13, Part II | R303.1.3 (IRC N1101.12.3), Chapter 5 | Adds the American National Standards Institute (ANSI)/Door and Access Systems Manufacturers Association (DASMA) standard 105 as an alternative to National Fenestration and Rating Council (NFRC) 100 for determining U-factors of garage doors, where required | Neutral | Adds an option of using ANSI/DASMA 105 instead of NFRC 100.
CE66-13, Part II | R301.4 (NEW) (IRC N1101.10.3 (NEW)), R406 (NEW) (IRC N1106 (NEW)) | Defines a new “Tropical” climate zone and adds an optional compliance path for semi-conditioned residential buildings with a list of pre-defined criteria to be deemed as code compliant in this climate zone | Detrimental | Exception to code requirements applicable to a small number of homes in tropical areas.
CE67-13, Part II | R303.1.4.1 (N1101.12.4) (NEW), Chapter 5 | Adds ASTM C1363 as the required test standard for determining the thermal resistance (R-value) of insulating siding | Neutral | Addition of testing requirements.
CE161-13, Part II | R402.3.2 (IRC N1102.3.2) | Allows dynamic glazing to satisfy the SHGC requirements provided the ratio of upper to lower SHGC is 2.4 or greater and is automatically controlled to modulate the amount of solar gain into the space | Negligible | Similar energy impact to non-dynamic glazing.
CE177-13, Part II | R402.1.2 (NEW), (IRC N1102.4.1.2 (NEW)) | Requires open combustion appliances to be outside conditioned space or in a room isolated from conditioned space and ducted to the outside | Neutral | Relates to indoor air quality and does not impact energy directly.
CE179-13, Part II | Table R402.4.1.1 (IRC Table N1102.4.1.1) | Exempts fire sprinklers from air sealing requirements | Negligible | The home/unit would still have to pass the blower door test.
CE283-13, Part II | R403.4.3 (NEW) (N1103.5 (NEW)), Chapter 5, IRC P2903.11 (NEW) | Requires drain water heat recovery systems to comply with Canadian Standards Association (CSA) Standard 55 and adds references to CSA Standard 55 to chapter 5 | Negligible | Enables credit for efficiency improvements due to the use of drain water heat recovery devices.
CE362-13, Part II | R403.2 (New) (IRC N1103.2 (New)) | Adds requirement for outdoor setback control for hot water boilers that controls the boiler water temperature based on the outdoor temperature | Beneficial | Lowering boiler water temperature during periods of moderate outdoor temperature reduces energy consumption of the boiler.
(a) Code sections refer to the 2012 IECC.
KEY: The following terms are used to characterize the effect of individual code change on energy efficiency (as contained in the above table): Beneficial indicates that a code change is anticipated to improve energy efficiency; Detrimental indicates a code change may increase energy use in certain applications; Neutral indicates that a code change is not anticipated to impact energy efficiency; Negligible indicates a code change may have energy impacts but too small to quantify; and Not Quantifiable indicates that a code change may have energy impacts but cannot be quantified at this time.

In addition to the changes approved for inclusion in the prescriptive and mandatory paths, ICC also approved a proposal based on an Energy Rating Index (ERI) in the 2015 IECC. While this change does not directly alter stringency of the code, it does provide an additional compliance path as an alternative to the IECC prescriptive and performance paths. DOE determination analyses have historically been based on the prescriptive compliance path. This has been done because: (1) The prescriptive compliance path is generally considered the predominant compliance path, and; (2) the performance path effectively allows a limitless number of ways to comply with the code, and no accepted methodology exists for how to analyze it. Equally important, there is no aggregated source of data allowing for documentation of how buildings meet the performance path criteria. In the absence of such data, an analysis of the performance path would have no empirical basis.

The inclusion of a new type of compliance path in the 2015 IECC, which is based on an Energy Rating Index (ERI), prompted DOE to review its historical approach of using only the prescriptive path, and make a decision as to whether a change in methodology would be appropriate for the current determination analysis. Three primary points were considered:

(1) The impact of the ERI path on national residential energy consumption is dependent on the number of homes that use this new path, and the unique building characteristics of those homes. As no jurisdiction has yet implemented the 2015 IECC, there is no way to know how many homes will use this path.

(2) An analysis conducted by Pacific Northwest National Laboratory (PNNL) concluded that most homes built using the ERI path, as specified in the 2015 IECC, are likely to be at least as efficient as the homes built to meet the prescriptive requirements of the IECC or the traditional performance path.⁴

⁴ Taylor et al., Identification of RESNET HERS Index Values Corresponding to Minimal Compliance with the IECC (PNNL, Richland, WA, May 2014), available at http://www.energycodes.gov/hers-and-iecc-performance-path

(3) Including the new ERI path but not the traditional performance path would be arbitrary relative to historical determination analysis. An accepted methodology, along with a supporting data source, by which to analyze the performance path would also be necessary, and is not currently available.

Based on these three points, DOE concluded that it is appropriate to follow its historical approach for the current determination. However, DOE acknowledges that the landscape of code compliance may be changing, and therefore plans to track the implementation and application of the new ERI path, as well as collect relevant data that may enable DOE to further evaluate the ERI path in future analyses. DOE will also investigate the possibility of collecting data that could provide the basis for a broader analysis of performance-based compliance paths. Finally, DOE will explore whether the total number of homes built under each path can be determined and tracked over time. DOE anticipates that multiple paths may be considered in future determinations, but will only be included if the potential energy savings are large enough to significantly change the results that would occur from an analysis of prescriptive requirements.

Table III.2 summarizes the overall impact of the code change proposals in the qualitative analysis. Overall, the sum of the beneficial code changes (6) is greater than the number of the detrimental code change proposals (3).

Table III.2—Overall Summary of Code Change Proposal Impact in Qualitative Analysis
Detriment | Neutral | Benefit | Negligible impact | Unquantifiable at this time | Total
3 | 62 | 6 | 5 | 1 | 77

Quantitative Analysis

The quantitative analysis of the 2015 IECC was carried out using whole-building energy simulations of prototype buildings designed to meet the requirements of the 2012 IECC and the 2015 IECC. DOE simulated 32 representative residential building types across 15 U.S. climate locations, with locations selected to be representative of all U.S climate zones, as defined by the IECC. Energy use intensities (EUI) by fuel type and by end-use, as regulated by the IECC (i.e., heating, cooling, domestic water heating and lighting) were extracted for each building type, and weighted by the relative square footage of construction (represented by building type in each climate regions).

The quantitative analysis of buildings designed to meet the requirements of the 2015 IECC indicates national site energy savings of 1.12 percent of residential building energy consumption, as regulated by the IECC (in comparison to the 2012 IECC). Associated source energy savings are estimated to be approximately 1.03 percent, and national average energy cost savings are estimated to be approximately 0.90 percent. Table III.3 and Table III.4 show the energy use and associated savings resulting from the 2015 IECC by climate zone and on an aggregated national basis. Further details on the quantitative analysis can be found in the technical support document.

Table III.3—Estimated Regulated Annual Site and Source Energy Use Intensities (EUI), and Energy Costs by Climate-Zone (2012 IECC)
Climate zone | Site EUI (kBtu/ft²-yr) | Source EUI (kBtu/ft²-yr) | Energy costs ($/residence-yr)
1 | 14.18 | 39.23 | 866
2 | 16.38 | 41.32 | 1052
3 | 16.04 | 38.05 | 927
4 | 18.35 | 40.54 | 980
5 | 26.65 | 44.44 | 1082
6 | 28.35 | 46.27 | 1118
7 | 35.16 | 59.78 | 1408
8 | 48.68 | 84.06 | 2166
National Weighted Average | 19.92 | 41.45 | 1015

Table III.4—Estimated Regulated Annual Site and Source Energy Use Intensities (EUI), and Energy Costs by Climate-Zone (2015 IECC)
Climate zone | Site EUI (kBtu/ft²-yr) | Source EUI (kBtu/ft²-yr) | Energy costs ($/residence-yr)
1 | 14.07 | 38.98 | 862
2 | 16.21 | 40.93 | 1044
3 | 15.83 | 37.59 | 917
4 | 18.12 | 40.06 | 970
5 | 26.39 | 44.05 | 1074
6 | 28.08 | 45.86 | 1110
7 | 34.82 | 59.20 | 1396
8 | 48.17 | 83.16 | 2143
National Weighted Average | 19.69 | 41.02 | 1006

Table III.5 presents the estimated energy savings (based on percent change in EUI and energy costs) associated with the 2015 IECC. Overall, the updated code is expected to increase the energy efficiency of residential buildings, as represented in Table III.5.

Table III.5—Regulated Annual Energy Savings Estimated from the Quantitative Analysis
Climate zone | Site EUI (a) | Source EUI (a) | Energy costs (a)
1 | 0.81% | 0.64% | 0.46%
2 | 1.04% | 0.93% | 0.82%
3 | 1.33% | 1.20% | 1.03%
4 | 1.26% | 1.19% | 1.03%
5 | 0.98% | 0.87% | 0.76%
6 | 0.95% | 0.87% | 0.75%
7 | 0.98% | 0.96% | 0.85%
8 | 1.06% | 1.07% | 1.07%
National Weighted Average | 1.12% | 1.03% | 0.90%
(a) Percentages are calculated before rounding and may not exactly match percentages calculated between Table IV.3 and Table IV.4.

IV. Preliminary Determination Statement

Review and evaluation of the 2012 and 2015 editions of the IECC indicate that there are differences between the two editions. Qualitative analysis of the updated code reveals that many of the code changes are anticipated to have a neutral impact on energy efficiency, while a small number of code changes are anticipated to yield improved energy efficiency, and a smaller number of code changes are anticipated to be detrimental to energy efficiency. In addition, quantitative analysis of the code indicates regulated site energy, source energy, and energy cost savings of 1.12 percent, 1.03 percent and 0.90 percent, respectively. DOE has rendered the preliminary conclusion that the 2015 IECC will improve energy efficiency in residential buildings, and, therefore, should receive an affirmative determination under Section 304(a) of ECPA.

V. State Certification

If today's determination is finalized, each State would be required to determine the appropriateness of revising the portion of its residential building code regarding energy efficiency to meet or exceed the energy efficiency provisions of the 2015 IECC. (42 U.S.C. 6833(a)(5)(B)) This action must be made not later than 2 years from the date of publication of a Notice of Final Determination, unless an extension is provided.

State Review and Update

The State determination must be: (1) Made after public notice and hearing; (2) in writing; (3) based upon findings and upon the evidence presented at the hearing; and (4) made available to the public. (42 U.S.C. 6833(a)(2)) States have discretion with regard to the hearing procedures they use, subject to providing an adequate opportunity for members of the public to be heard and to present relevant information. The Department recommends publication of any notice of public hearing through appropriate and prominent media outlets, such as in a newspaper of general circulation. States should also be aware that this determination does not apply to IECC chapters specific to nonresidential buildings, as defined in the IECC. Therefore, if today's action is finalized, States must certify their evaluations of their State building codes for residential buildings with respect to all provisions of the IECC, except for those chapters not affecting residential buildings.

State Certification Statements

If a State makes a determination that it is not appropriate to revise the energy efficiency provisions of its residential building code, the State must submit to the Secretary, in writing, the reasons for this determination and the statement shall be available to the public. (42 U.S.C. 6833(a)(4)) State certifications are to be sent to the address provided in the ADDRESSES section, or may be submitted to BuildingEnergyCodes@ee.doe.gov.

The DOE Building Energy Codes Program tracks and reports State code adoption and certifications.⁵ Once a State has adopted an updated residential code, DOE typically provides software, training, and support for the new code, as long as the new code is based on the national model code (i.e., the 2015 IECC). DOE has issued previous guidance on how it intends to respond to technical assistance requests related to implementation resources, such as building energy code compliance software. (79 FR 15112) DOE also recognizes that some States develop their own codes that are only loosely related to the national model codes, and DOE does not typically provide technical support for those codes. However, DOE Secretary is required to provide incentive funding to States to implement the requirements of section 304, and to improve and implement State residential and commercial building energy efficiency codes, including increasing and verifying compliance with such codes. (See 42 U.S.C. 6833(e)) DOE does not prescribe how each State adopts and enforces its energy codes.

⁵ Available at http://www.energycodes.gov/adoption/states

Requests for Extensions

Section 304(c) of ECPA requires that the Secretary permit an extension of the deadline for complying with the certification requirements described above, if a State can demonstrate that it has made a good faith effort to comply with such requirements, and that it has made significant progress toward meeting its certification obligations. (42 U.S.C. 6833(c)) Such demonstrations could include one or both of the following: (1) A plan for response to the requirements stated in Section 304; or (2) a statement that the State has appropriated or requested funds (within State funding procedures) to implement a plan that would respond to the requirements of Section 304 of ECPA. This list is not exhaustive. Requests are to be sent to the address provided in the ADDRESSES section, or may be submitted to BuildingEnergyCodes@ee.doe.gov.

VI. Regulatory Review and Analysis

Review Under Executive Orders 12866 and 13563

Today's action is not a significant regulatory action under Section 3(f) of Executive Order 12866, “Regulatory Planning and Review” (58 FR 51735). Accordingly, today's action was not reviewed by the Office of Information and Regulatory Affairs (OIRA) in the Office of Management and Budget (OMB). DOE has also reviewed this regulation pursuant to Executive Order 13563, issued on January 18, 2011. (76 FR 3281) Executive Order 13563 is supplemental to and explicitly reaffirms the principles, structures, and definitions governing regulatory review established in Executive Order 12866.

Review Under the Regulatory Flexibility Act

The Regulatory Flexibility Act (5 U.S.C. 601 et seq.) requires the preparation of an initial regulatory flexibility analysis for any rule that by law must be proposed for public comment, unless the agency certifies that the rule, if promulgated, will not have a significant economic impact on a substantial number of small entities. As required by Executive Order 13272, “Proper Consideration of Small Entities in Agency Rulemaking” (67 FR 53461), DOE published procedures and policies on February 19, 2003, to ensure that the potential impacts of its rules on small entities are properly considered during the rulemaking process. (68 FR 7990) DOE has also made its procedures and policies available on the Office of General Counsel Web site.⁶

⁶ Available at http://energy.gov/gc/office-general-counsel

DOE has reviewed today's action under the provisions of the Regulatory Flexibility Act and the procedures and policies published in February 2003. Once DOE finalizes this determination of improved energy efficiency, it would require States to undertake an analysis of their respective building codes. As such, the only entities directly regulated by this determination would be States. DOE does not believe that there will be any direct impacts on small entities, such as small businesses, small organizations, or small governmental jurisdictions. Based on the foregoing, DOE certifies that this preliminary determination would not have a significant economic impact on a substantial number of small entities. Accordingly, DOE has not prepared a regulatory flexibility analysis for this determination. DOE's certification and supporting statement of factual basis will be provided to the Chief Counsel for Advocacy of the Small Business Administration pursuant to 5 U.S.C. 605(b).

Review Under the National Environmental Policy Act of 1969

Today's action is covered under the Categorical Exclusion found in DOE's National Environmental Policy Act regulations at paragraph A.6 of appendix A to subpart D, 10 CFR part 1021. That Categorical Exclusion applies to actions that are strictly procedural, such as rulemaking establishing the administration of grants. Today's action is required by Title III of ECPA, as amended, which provides that whenever the 1992 MEC, or any successor to that code, is revised, the Secretary must make a determination, not later than 12 months after such revision, whether the revised code would improve energy efficiency in residential buildings and must publish notice of such determination in the Federal Register. (42 U.S.C. 6833(a)(5)(A)) If the Secretary determines that the revision of 1992 MEC, or any successor thereof, improves the level of energy efficiency in residential buildings, then no later than 2 years after the date of the publication of such affirmative determination, each State is required to certify that it has reviewed its residential building code regarding energy efficiency and made a determination whether it is appropriate to revise its code to meet or exceed the provisions of the successor code. (42 U.S.C. 6833(a)(5)(B)) Therefore, DOE has determined that this preliminary determination is not a major Federal action that would have direct environmental impacts. Accordingly, DOE has not prepared an environmental assessment or an environmental impact statement.

Review Under Executive Order 13132, “Federalism”

Executive Order 13132 (64 FR 43255) imposes certain requirements on agencies formulating and implementing policies or regulations that pre-empt State law or that have federalism implications. Agencies are required to examine the constitutional and statutory authority supporting any action that would limit the policymaking discretion of the States and carefully assess the necessity for such actions. Congress found that:

(1) Large amounts of fuel and energy are consumed unnecessarily each year in heating, cooling, ventilating, and providing domestic hot water for newly constructed residential and commercial buildings because such buildings lack adequate energy conservation features;

(2) Federal voluntary performance standards for newly constructed buildings can prevent such waste of energy, which the Nation can no longer afford in view of its current and anticipated energy shortage;

(3) The failure to provide adequate energy conservation measures in newly constructed buildings increases long-term operating costs that may affect adversely the repayment of, and security for, loans made, insured, or guaranteed by Federal agencies or made by federally insured or regulated instrumentalities; and

(4) State and local building codes or similar controls can provide an existing means by which to ensure, in coordination with other building requirements and with a minimum of Federal interference in State and local transactions, that newly constructed buildings contain adequate energy conservation features. (42 U.S.C. 6831)

Pursuant to Section 304(a) of ECPA, DOE is statutorily required to determine whether the most recent edition of the MEC (or its successor) would improve the level of energy efficiency in residential buildings as compared to the previous edition. If DOE makes a positive determination, the statute requires each State to certify that it has reviewed its residential building code regarding energy efficiency and made a determination whether it is appropriate to revise its code to meet or exceed the provisions of the successor code. (42 U.S.C. 6833(a)(5)(B))

Executive Order 13132 requires meaningful and timely input by State and local officials in the development of regulatory policies that have federalism implications unless funds necessary to pay the direct costs incurred by the State and local governments in complying with the regulation are provided by the Federal Government. (62 FR 43257) Pursuant to Section 304(e) of ECPA, the Secretary is required to provide incentive funding to States to implement the requirements of Section 304, and to improve and implement State residential and commercial building energy efficiency codes, including increasing and verifying compliance with such codes. In determining whether, and in what amount, to provide incentive funding, the Secretary must consider the actions proposed by the State to implement the requirements of this section, to improve and implement residential and commercial building energy efficiency codes, and to promote building energy efficiency through the use of such codes. (See 42 U.S.C. 6833(e)) Therefore, consultation with States and local officials regarding this determination was not required.

However, DOE notes that State and local governments were invited to participate in the development of the 2015 IECC. The IECC is developed in a national consensus process open to the public, and in which State and local governments may participate, along with the general public. The updated code is the product of a series of code change proposals to the prior edition of the code, with each change made available for public review, and with any interested party having the ability to participate and submit comments. Comments on the code change proposals and public comments are received, reviewed, and resolved through an established process administered by the ICC. Many representatives from State and local governments participate in the code development hearings. As directed by Congress, DOE believes that this process has given State and local jurisdictions extensive opportunity to comment and express any concerns on the 2015 IECC, the subject of this determination.

Within two years from the issuance of a final determination that the 2015 IECC would improve the energy efficiency of residential buildings, ECPA requires each State to certify to the Secretary that it has reviewed its residential building code regarding energy efficiency, and made a determination whether it is appropriate to revise its code to meet or exceed the provisions of the successor code. DOE notes that ECPA sets forth this requirement for States. (42 U.S.C. 6833(a)(5)(B)) States are given broad freedom to either adopt the IECC or develop their own code that meets or exceeds the IECC.

Review Under Unfunded Mandates Reform Act of 1995

The Unfunded Mandates Reform Act of 1995 (Pub. L. 104-4) generally requires Federal agencies to examine closely the impacts of regulatory actions on State, local, and tribal governments. Subsection 101(5) of Title I of that law defines a Federal intergovernmental mandate to include any regulation that would impose upon State, local, or tribal governments an enforceable duty, except a condition of Federal assistance or a duty arising from participating in a voluntary Federal program. Title II of that law requires each Federal agency to assess the effects of Federal regulatory actions on State, local, and tribal governments, in the aggregate, or to the private sector, other than to the extent such actions merely incorporate requirements specifically set forth in a statute. Section 202 of that title requires a Federal agency to perform an assessment of the anticipated costs and benefits of any rule that includes a Federal mandate that may result in costs to State, local, or tribal governments, or to the private sector, of $100 million or more. Section 204 of that title requires each agency that proposes a rule containing a significant Federal intergovernmental mandate to develop an effective process for obtaining meaningful and timely input from elected officers of State, local, and tribal governments.

Consistent with previous determinations, DOE has completed its review, and concluded that impacts on state, local, and tribal governments are less than the $100 million threshold specified in the Unfunded Mandates Act. Accordingly, no further action is required under the Unfunded Mandates Reform Act of 1995.

Review Under the Treasury and General Government Appropriations Act of 1999

Section 654 of the Treasury and General Government Appropriations Act of 1999 (Pub. L. 105-277) requires Federal agencies to issue a Family Policymaking Assessment for any rule that may affect family well-being. Today's action would not have any impact on the autonomy or integrity of the family as an institution. Accordingly, DOE has concluded that it is not necessary to prepare a Family Policymaking Assessment.

Review Under the Treasury and General Government Appropriations Act of 2001

Section 515 of the Treasury and General Government Appropriations Act, 2001 (44 U.S.C. 3516) provides for agencies to review most disseminations of information to the public under guidelines established by each agency pursuant to general guidelines issued by OMB. Both OMB and DOE have published established relevant guidelines (67 FR 8452 and 67 FR 62446, respectively). DOE has reviewed today's action under the OMB and DOE guidelines, and has concluded that it is consistent with applicable policies in those guidelines.

Review Under Executive Order 13211

Executive Order 13211, “Actions Concerning Regulations That Significantly Affect Energy Supply, Distribution, or Use,” (66 FR 28355), requires Federal agencies to prepare and submit to the OMB a Statement of Energy Effects for any proposed significant energy action. A “significant energy action” is defined as any action by an agency that promulgated or is expected to lead to promulgation of a final rule, and that; (1) Is a significant regulatory action under Executive Order 12866, or any successor order; and (2) is likely to have a significant adverse effect on the supply, distribution, or use of energy; or (3) is designated by the Administrator of the OMB OIRA as a significant energy action. For any proposed significant energy action, the agency must give a detailed statement of any adverse effects on energy supply, distribution, or use, should the proposal be implemented, and of reasonable alternatives to the action and their expected benefits on energy supply, distribution, and use. Today's action would not have a significant adverse effect on the supply, distribution, or use of energy and is therefore not a significant energy action. Accordingly, DOE has not prepared a Statement of Energy Effects.

Review Under Executive Order 13175

Executive Order 13175, “Consultation and Coordination with Indian tribal Governments”, (65 FR 67249), requires DOE to develop an accountable process to ensure “meaningful and timely input by tribal officials in the development of regulatory policies that have tribal implications.” “Policies that have tribal implications” refers to regulations that have “substantial direct effects on one or more Indian tribes, on the relationship between the Federal Government and Indian tribes, or on the distribution of power and responsibilities between the Federal Government and Indian tribes.” Today's action is not a policy that has “tribal implications” under Executive Order 13175. DOE has reviewed today's action under Executive Order 13175 and has determined that it is consistent with applicable policies of that Executive Order.

VII. Public Participation

DOE will accept comments, data, and information regarding this proposed rule no later than the date provided in the DATES section at the beginning of this determination. Interested parties may submit comments, data, and other information using any of the methods described in the ADDRESSES section at the beginning of this notice.

Submitting Comments via the Regulations.gov Web Site

The Regulations.gov Web page will require you to provide your name and contact information. Your contact information will be viewable to DOE Building Technologies Office staff only. Your contact information will not be publicly viewable, except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment itself or in any documents attached to your comment. Any information that you do not want to be publicly viewable should not be included in your comment, nor in any document attached to your comment. Otherwise, persons viewing comments will see only first and last names, organization names, correspondence containing comments, and any documents submitted with the comments. Do not submit to Regulations.gov information for which disclosure is restricted by statute, such as trade secrets and commercial or financial information (hereinafter referred to as Confidential Business Information (CBI)). Comments submitted through Regulations.gov cannot be claimed as CBI. Comments received through the Web site will waive any CBI claims for the information submitted. For information on submitting CBI, see the Confidential Business Information section below.

DOE processes submissions made through Regulations.gov before posting. Normally, comments will be posted within a few days of being submitted. However, if large volumes of comments are being processed simultaneously, your comment may not be viewable for up to several weeks. Please keep the comment tracking number that Regulations.gov provides after you have successfully uploaded your comment.

Submitting Comments via Email, Hand Delivery/Courier, or Mail

Comments and documents submitted via email, hand delivery, or mail also will be posted to Regulations.gov. If you do not want your personal contact information to be publicly viewable, do not include it in your comment or any accompanying documents. Instead, provide your contact information in a cover letter, including your first and last names, email address, telephone number, and optional mailing address. The cover letter will not be publicly viewable as long as it does not include any comments.

Include contact information each time you submit comments, data, documents, and other information to DOE. If you submit via mail or hand delivery/courier, please provide all items on a CD, if feasible. It is not necessary to submit printed copies. No facsimiles (faxes) will be accepted.

Comments, data, and other information submitted to DOE electronically should be provided in PDF (preferred), Microsoft Word or Excel, WordPerfect, or text (ASCII) file format. Provide documents that are not secured, that are written in English, and that are free of any defects or viruses. Documents should not contain special characters or any form of encryption and, if possible, they should carry the electronic signature of the author.

Campaign Form Letters

Please submit campaign form letters by the originating organization in batches of between 50 to 500 form letters per PDF or as one form letter with a list of supporters' names compiled into one or more PDFs. This reduces comment processing and posting time.

Confidential Business Information

According to 10 CFR 1004.11, any person submitting information that he or she believes to be confidential and exempt by law from public disclosure should submit via email, postal mail, or hand delivery/courier two well-marked copies: one copy of the document marked confidential including all the information believed to be confidential, and one copy of the document marked non-confidential with the information believed to be confidential deleted. Submit these documents via email or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person which would result from public disclosure; (6) when such information might lose its confidential character due to the passage of time; and (7) why disclosure of the information would be contrary to the public interest.

It is DOE's policy that all comments may be included in the public docket, without change and as received, including any personal information provided in the comments (except information deemed to be exempt from public disclosure).

Issued in Washington, DC, on September 18, 2014.
Kathleen B. Hogan,
Deputy Assistant Secretary for Energy Efficiency, Energy Efficiency and Renewable Energy.

[FR Doc. 2014-22885 Filed 9-25-14; 8:45 am]

BILLING CODE 6450-01-P